DEPARTMENT OF TRANSPORTATION

Federal Aviation Administration

14 CFR Part 39

[Docket No. FAA-2007-27223; Directorate Identifier 2006-NM-224-AD]

RIN 2120-AA64

Airworthiness Directives; Boeing Model 767 Airplanes

AGENCY: Federal Aviation Administration (FAA), Department of Transportation (DOT).

ACTION: Notice of proposed rulemaking (NPRM).

SUMMARY: The FAA proposes to adopt a new airworthiness directive (AD) for certain Boeing Model 767 airplanes. This proposed AD would require modifying the link arms of the number 2 windows in the flight compartment. This proposed AD results from reports of the number 2 windows opening during takeoff roll, which has resulted in aborted takeoffs. We are proposing this AD to prevent the opening of the number 2 windows during takeoff roll, which could result in an aborted takeoff or an unscheduled landing, and adversely affect the flightcrew's ability to perform critical takeoff communication.

DATES: We must receive comments on this proposed AD by April 2, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Boeing Commercial Airplanes, P.O. Box 3707, Seattle, Washington 98124-2207, for the service information identified in this proposed AD.

FOR FURTHER INFORMATION CONTACT: John Bell, Aerospace Engineer, Cabin Safety and Environmental Systems Branch, ANM-150S, FAA, Seattle Aircraft Certification Office, 1601 Lind Avenue, SW., Renton, Washington 98057-3356; telephone (425) 917-6422; fax (425) 917-6590.

SUPPLEMENTARY INFORMATION:

Comments Invited

We invite you to submit any relevant written data, views, or arguments regarding this proposed AD. Send your comments to an address listed in the ADDRESSES section. Include the docket number “FAA-2007-27223; Directorate Identifier 2006-NM-224-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

Operators have reported the number 2 windows opening during takeoff roll. This has resulted in aborted takeoffs, which have occurred at speeds up to 140 knots. The number 2 windows are opened and closed by rotating an operating crank. When the flightcrew closes the window, the crank roller at the end of the torque tube will move and lock into the cam block at the top aft corner of the window. On affected airplanes, the crank roller can move at 18-degree increments with one gear tooth rotation. This minimum adjustment of 18 degrees can cause too much movement of the lower link arm and result in interference with the link bracket, preventing the crank roller from engaging into the cam block. When this occurs, the link arm will not be positioned at an angle less than 90 degrees (over center) in reference to the track roller, and the window could open during takeoff roll. Opening of the number 2 windows during takeoff roll, if not corrected, could result in aborted takeoffs or unscheduled landings, and adversely affect the flightcrew's ability to perform critical takeoff communication.

Relevant Service Information

We have reviewed Boeing Alert Service Bulletin 767-56A0010, dated September 7, 2006. The service bulletin describes procedures for modifying the link arms of the number 2 windows in the flight compartment. The modification will allow the crank roller to move at 9-degree increments with a change of position of a retaining pin, instead of one gear tooth rotation of 18-degree increments. The link arm that drives the window shut will be positioned at an angle less than 90 degrees (over center), in reference to the track roller, when the window is closed. The modification will make sure that the window cannot open without input from the operating crank. The modification involves either:

• Replacing the link brackets, cam blocks, and torque tube assemblies with new parts; or

• Reworking the cam blocks and torque tube assemblies, and either reworking the link brackets or replacing them with new link brackets.

Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously.

Costs of Compliance

There are about 896 airplanes of the affected design in the worldwide fleet; of these, 384 are U.S.-registered airplanes. The following table provides the estimated costs for U.S. operators to comply with this proposed AD. The cost of parts depends on the type and extent of the replacement or rework.

Estimated Costs
Action | Work hours | Average labor rate per hour | Parts | Cost per airplane | Fleet cost
Modification | 8-10 | $80 | $495-$6,805 | $1,135-$7,605 | Up to $2,920,320.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Boeing: Docket No. FAA-2007-27223; Directorate Identifier 2006-NM-224-AD.

Comments Due Date

(a) The FAA must receive comments on this AD action by April 2, 2007.

Affected ADs

(b) None.

Applicability

(c) This AD applies to Model 767-200, -300, -300F, and -400ER series airplanes, certificated in any category, as identified in Boeing Alert Service Bulletin 767-56A0010, dated September 7, 2006.

Unsafe Condition

(d) This AD results from reports of the number 2 windows opening during takeoff roll, which has resulted in aborted takeoffs. We are issuing this AD to prevent the opening of the number 2 windows during takeoff roll, which could result in an aborted takeoff or an unscheduled landing, and adversely affect the flightcrew's ability to perform critical takeoff communication.

Compliance

(e) You are responsible for having the actions required by this AD performed within the compliance times specified, unless the actions have already been done.

Modification

(f) Within 60 months after the effective date of this AD, modify the link arms of the number 2 windows in the flight compartment, in accordance with Boeing Alert Service Bulletin 767-56A0010, dated September 7, 2006.

Alternative Methods of Compliance (AMOCs)

(g)(1) The Manager, Seattle Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on February 5, 2007.
Ali Bahrami,
Manager, Transport Airplane Directorate, Aircraft Certification Service.

[FR Doc. E7-2523 Filed 2-13-07; 8:45 am]

BILLING CODE 4910-13-P